INTERNATIONAL TRADE COMMISSION

Agency Form Submitted for OMB Review

AGENCY: United States International Trade Commission.

ACTION: In accordance with the provisions of the Paperwork Reduction Act of 1995 (44 U.S.C. Chapter 35), the Commission has submitted a request for emergency processing for review and clearance of questionnaires to the Office of Management and Budget (OMB). The Commission has requested OMB approval of this submission by June 3, 2002.

Effective Date: May 14, 2002.

Purpose of Information Collection: The questionnaires are for use by the Commission in connection with investigation No. 332-435, Tools, Dies, and Industrial Molds: Competitive Conditions in the United Sates and Selected Foreign Markets, instituted under the authority of section 332(g) of the Tariff Act of 1930 (19 U.S.C. 1332(g)). This investigation was requested by the House Committee on Ways and Means (the Committee). The Commission expects to deliver the results of its investigation to the Committee by October 21, 2002.

Summary of Proposal:

(1) Number of forms submitted: 2.

(2) Title of form: U.S. Producers' Questionnaire—Tools, Dies, and Industrial Molds: Competitive Conditions in the United States and Selected Foreign Markets: and U.S. Purchasers' Questionnaire—Questionnaire—Tools, Dies, and Industrial Molds: Competitive Conditions in the United States and Selected Foreign Markets:

(3) Type of request: New.

(4) Frequency of use: Producer/Purchaser questionnaires, single data gathering, scheduled for 2002.

(5) Description of respondents: U.S. firms that produce and purchase tools, dies, and industrial molds.

(6) Estimated number of respondents: Producers: 333; Purchasers: 100.

(7) Estimated total number of hours to complete the forms: Producer: 4,995 hours; Purchaser: 1,000.

(8) Information obtained from the form that qualifies as confidential business information will be so treated by the Commission and not disclosed in a manner that would reveal the individual operations of a firm.

Additional Information or Comment: Copies of the forms and supporting documents will be posted on the Commission's Internet site at http://www.usitc.gov or may be obtained from Karen Taylor (USITC, telephone no. (202) 708-4101). Comments about the proposal should be directed to the Office of Management and Budget, Office of Information and Regulatory Affairs, Room 10102 (Docket Library), Washington, DC 20503, ATTENTION: Desk Officer for the International Trade Commission. All comments should be specific, indicating which part of the questionnaire is objectionable, describing the concern in detail, and including specific suggested revisions or language changes. Copies of any comments should be provided to Robert Rogowsky, Director, Office of Operations, U.S. International Trade Commission, 500 E Street SW., Washington, DC 20436, who is the Commission's designated Senior Official under the Paperwork Reduction Act.

Hearing impaired individuals are advised that information on this matter can be obtained by contacting our TTD terminal (telephone no. 202-205-1810). General information concerning the Commission may also be obtained by accessing its Internet server (http://www.usitc.gov).

By order of the Commission.
Issued: May 24, 2002.
Marilyn Abbott,
Secretary.

[FR Doc. 02-13617 Filed 5-29-02; 8:45 am]

BILLING CODE 7020-02-P